DEPARTMENT OF HEALTH AND HUMAN SERVICES

Centers for Disease Control and Prevention

[60Day-07-0672]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Indicators of the Performance of Local and State and Education Agencies in HIV-prevention and Coordinated School Health Program Activities for Adolescent and School Health Programs (0920-0672)—(Extension)—National Center for Chronic Disease Prevention and Health Promotion (NCCDPHP), Centers for Disease Control and Prevention (CDC).

Background and Brief Description

The proposed project is an annual Web-based questionnaire to assess programmatic activities among local education agencies (LEA) and state and territorial education agencies (SEA and TEA) funded by the Division of Adolescent and School Health (DASH), Centers for Disease Control and Prevention.

Currently, there is no standardized annual reporting process for HIV prevention activities or coordinated school health program (CSHP) activities among LEAs and SEAs/TEAs funded by DASH. Data being gathered will be in the form of four questionnaires, which will: (1) Provide standardized information about how HIV prevention, asthma management, and CSHP funds are used by LEAs and SEAs; (2) assess the extent to which programmatic adjustments are indicated; (3) provide descriptive and process information about program activities; and (4) provide greater accountability for use of public funds. These questionnaires are to be completed within ninety days after the end of the fiscal year by the DASH-funded partners on a Web site managed by DASH.

Of the four Web-based questionnaires corresponding to the specific funding source: Two (2) questionnaires will pertain to HIV-prevention program activities among LEAs and SEAs/TEAs; one (1) will pertain to asthma management activities among LEAs; and one (1) will pertain to CSHP activities among SEAs.

The HIV questionnaires will include questions on:

• Distribution of, professional development and individualized technical assistance on school policies.

• Distribution of professional development and individualized technical assistance on education curricula and instruction.

• Distribution of professional development and individualized technical assistance assessment on student standards.

• Collaboration with external partners.

• Targeting priority populations.

• Planning and improving projects.

• Information about additional program activities.

The asthma questionnaire will ask the questions above, but will focus on asthma management activities.

The CSHP questionnaire will also ask the questions above, but focused on physical activity, nutrition, and tobacco-use prevention activities (PANT), and include additional questions on:

• Joint activities of the State Education Agency and State Health Agency (SHA).

• Activities of the CSHP state-wide coalition.

• Health promotion programs and environmental approaches to PANT.

There are no costs to respondents except their time to participate in the survey.

Estimated Annualized Burden Hours
Respondents | Form name | Number of respondents | Number of responses per respondent | Average burden per response (in hours) | Total burden (in hours)
HIV—Local Education Agency (LEA) Official | Indicators for School Health Programs: HIV Prevention | 18 | 1 | 7.2 | 129
State & Territorial Educational Agency (SEA & TEA) Officials | Indicators for School Health Programs: HIV Prevention | 55 | 1 | 7.2 | 396
Asthma—Local Educational Agency (LEA) Officials | Indicators for School Health Programs: Asthma Management | 10 | 1 | 7.2 | 72
CSHP—State Education Agency (SEA) Officials | Indications for School Health Programs: Coordinated School Health Programs (CSHPs); Physical Activity, Nutrition, and Tobacco Use (PANT) | 23 | 1 | 9.5 | 218
Total |  | 106 |  |  | 816

Dated: April 10, 2007.
Joan F. Karr,
Acting Reports Clearance Officer, Centers for Disease Control and Prevention.

[FR Doc. E7-7235 Filed 4-16-07; 8:45 am]

BILLING CODE 4163-18-P